DEPARTMENT OF HOUSING AND URBAN DEVELOPMENT

[Docket No. FR-5907-N-32]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, OPPM, Property Management Division, Agriculture South Building, 300 7th Street SW., Washington, DC 20024, (202) 720-8873; ENERGY: Mr. David Steinau, Department of Energy, Office of Asset Management (MA-50), 1000 Independence Ave. SW., Washington, DC 20585, (202) 287-1503; GSA: Mr. Flavio Peres, General Services Administration, Office of Real Property Utilization and Disposal, 1800 F Street NW., Room 7040 Washington, DC 20405, (202) 501-0084; INTERIOR: Mr. Michael Wright, Acquisition & Property Management, Department of the Interior, 3960 N. 56th Ave. #104, Hollywood, FL 33021; (443) 223-4639; NASA: Mr. William Brodt, National Aeronautics AND Space Administration, 300 E Street SW., Room 2P85, Washington, DC 20546, (202) 358-1117; NAVY: Mr. Steve Matteo, Department of the Navy, Asset Management Division, Naval Facilities Engineering Command, Washington Navy Yard, 1330 Patterson Ave. SW., Suite 1000, Washington, DC 20374; (202) 685-9426 (These are not toll-free numbers).

Dated: July 28, 2016.
Brian P. Fitzmaurice,
Director, Division of Community Assistance, Office of Special Needs Assistance Programs.

Title V, Federal Surplus Property Program Federal Register Report for 08/05/2016

Suitable/Available Properties

Building

Alabama

Material Pole Shed

11288 Horseshoe Rd.

Daviston AL 36256

Landholding Agency: Interior

Property Number: 61201630008

Status: Excess

Comments: off-site removal only; 764 sq. ft.; 29+ months vacant; not built to any construction code; contamination; remediation needed; contact Interior for more information

Tractor Pole Shed

11288 Horseshoe bend Rd

Daviston AL 36256

Landholding Agency: Interior

Property Number: 61201630010

Status: Excess

Comments: off-site removal only; removal difficult due to size; not built to any construction code; contact Interior for more information

California

El Cariso Hot Shot Camp

1357 B3 El Cariso Hot Shot Barracks Trailer

Lake Elsinore CA 92530

Landholding Agency: Agriculture

Property Number: 15201630005

Status: Unutilized

Directions: Gifford Pinchot Lane Hwy 74 to Long Canyton Rd.; off-site removal only; no future agency need; 1,335 sq. ft.; residential; 101+ months vacant; water restrictions; poor conditions;

Comments: mold/bacterial growth in walls & floor cavities & insulation; extensive repairs to make it useable; several use limitations; contact Agriculture for more information

New Mexico

Cuba Leased Office Site

04B County Rd. 11

Cuba NM 87013

Landholding Agency: Agriculture

Property Number: 15201630006

Status: Excess

Comments: 560 sq. ft.; 18+ months vacant; interior finishes need replacement; needs repainting; modular stud wall bldg.; contact Agriculture for more information

Texas

Building 43 Office

620240B043; 2881 F& B Rd.

College Station TX

Landholding Agency: Agriculture

Property Number: 15201630008

Status: Unutilized

Directions: Off-site removal only; no future agency need

Comments: 1,100 sq. ft.; office/cotton field research; 12+ months vacant; moderate conditions; minor repairs & painting; needs new HVAC; contact Agriculture for more details

Washington

USMC Reserve Center

1702 Tahoma Ave.,

Yakima WA 98902

Landholding Agency: GSA

Property Number: 54201630004

Status: Excess

GSA Number: 9-D-WA-1278AA

Directions: Landholding Agency: USMC; Disposal Agency: GSA

Comments: 4 Buildings & 1 Structure ranging from 270 to 20,000 sq. ft.; 48+ months vacant; sits on 4.64 acres; contact GSA for more information

Unsuitable Properties

Building

Alabama

Sign Shed

11288 Horseshoe bend Rd.

Daviston AL 36256

Landholding Agency: Interior

Property Number: 61201630009

Status: Excess

Comments: documented deficiencies: structural integrity compromised; clear threat to physical safety

Reasons: extensive deterioration

3 Buildings

Marshall Space Flight Center

MSFC AL 35812

Landholding Agency: NASA

Property Number: 71201630006

Status: Underutilized

Directions: 4558 (Structural Test Facility); 4567 (Pump & Boiler House); 4201 (Office Building)

Comments: public access denied and no alternative method to gain access without comprising national security

Reasons: Secured Area

4353 Imaging Services

Marshall Space Flight Center

MSFC AL 35812

Landholding Agency: NASA

Property Number: 71201630007

Status: Underutilized

Directions: Located on Digney Rd.

Comments: public access denied and no alternative method to gain access without compromising national security

Reasons: Secured Area

Alabama

4728 Shop & Storage Building

Marshall Space Flight Center

MSFC AL 35812

Landholding Agency: NASA

Property Number: 71201630008

Status: Underutilized

Directions: Located on Rideout Rd.

Comments: public access denied and no alternative method to gain access without compromising national security

Reasons: Secured Area

4467 Lidar Facility

Marshall Space Flight Center

MSFC AL 35812

Landholding Agency: NASA

Property Number: 71201630009

Status: Underutilized

Comments: public access denied and no alternative method to gain access without compromising national security

Reasons: Secured Area

California

Silverado Fire Station

1355 G Silverado Barracks Trailer

Silverado CA 92676

Landholding Agency: Agriculture

Property Number: 15201630009

Status: Unutilized

Directions: 27172 Silverado Canyon Rd.

Comments: documented deficiencies: severe rodent infestation; clear threat to physical safety

Reasons: Extensive deterioration

Kessler Springs Ranch

Mobile Home

(Building #303); 58274 Cima Rd.

Cima CA 92323

Landholding Agency: Interior

Property Number: 61201630006

Status: Excess

Comments: documented deficiencies: structural integrity compromised; clear threat to physical safety

Reasons: Extensive deterioration

Florida

Roberts House Loop Road Apts.

Big Cypress National Preserve

34141, N 25 45 19.7, W 080 58 56.6

Ochopee FL 34141

Landholding Agency: Interior

Property Number: 61201630002

Status: Unutilized

Comments: roof & wall sections have collapsed; damaged caused by tropical storm & hurricane events; clear threat to physical safety; located within floodway which has not been corrected or contained

Reasons: Floodway; Extensive deterioration

Quarters 8

Big Cypress National Preserve

26777 Birdon Rd.

Ochopee FL 34141

Landholding Agency: Interior

Property Number: 61201630003

Status: Unutilized

Comments: damage caused by tropical storm & hurricane events; no windows; therefore, rodent infestation; located within floodway which has not been correct or contained

Reasons: Floodway; Extensive deterioration

Quarters #8 Barn

Big Cypress National Preserve

26777 Birdon Rd.

Ochopee FL 34141

Landholding Agency: Interior

Property Number: 61201630004

Status: Unutilized

Comments: documented deficiencies: roof & wall sections collapsed; damaged caused by tropical storm & hurricane event; clear threat to safety; located within floodway which has not been corrected or contained

Reasons: Extensive deterioration; Floodway

Loop Road Building #31

Big Cypress Preserve

Loop Rd.

Ochopee FL 34141

Landholding Agency: Interior

Property Number: 61201630005

Status: Unutilized

Comments: roof & wall sections collapsed; damaged caused by tropical storm & hurricane events; clear threat to safety; located within floodway which has not been corrected or contained

Reasons: Extensive deterioration; Floodway

Loop Road Building #30

Loop Rd.

Ochopee FL 34141

Landholding Agency: Interior

Property Number: 61201630007

Status: Unutilized

Directions: N 25 58 97, W 080 14 78

Comments: documented deficiencies: damaged caused by tropical storm & hurricane events; clear threat to safety; located w/in floodway where has not been corrected or contained

Reasons: Floodway; Extensive deterioration

Loop House Building #29

Loop Rd.

Ochopee FL 34141

Landholding Agency: Interior

Property Number: 61201630011

Status: Unutilized

Directions: N 25 58 97, W 080 14 78

Comments: documented deficiencies: damaged caused by tropical storm & hurricane; clear threat to safety; located within floodway which has not been correct or contained

Reasons: Floodway; Extensive deterioration

Loop Road Building #31

Big Cypress National Preserve

Loop Rd.

Ochopee FL 34141

Landholding Agency: Interior

Property Number: 61201630012

Status: Unutilized

Comments: documented deficiencies: damaged caused by tropical storm & Hurricane events; threat to safety; located in floodway which has not been corrected or contained

Reasons: Extensive deterioration; Floodway

Yellow Water

a Special Area of NAS Jacksonville

Jasonville FL 32221

Landholding Agency: Navy

Property Number: 77201630003

Status: Unutilized

Directions: YW3064; YW3064LS; YW3067; YW3069; YW3072; YW3072LS; YW3073; YW3073LS

Comments: documented deficiencies: severely damaged by vandals; car accident which caused substantial damage; fire set by arsonist; decay/overgrown w/vegetation; clear threat to physical safety

Reasons: Extensive deterioration

Guam

60 Housing Units

4 Puntan At Nimitz Hill

Family Housing Area

Nimitz Hill Housing GU

Landholding Agency: Navy

Property Number: 77201630006

Status: Excess

Comments: public access denied and no alternative method to gain access without compromising national security

Reasons: Secured Area

Hawaii

4 Buildings

Marine Corps Base

Kaneohe HI 96863

Landholding Agency: Navy

Property Number: 77201630004

Status: Excess

Directions: 3094; 6029; 6073; 6074; located at the east end of Mokapu Rd.

Comments: public access denied and no alternative method to gain access without compromising national security

Reasons: Secured Area

Hawaii

2 Buildings

Marine Corps Base

Kaneohe HI 96863

Landholding Agency: Navy

Property Number: 77201630005

Status: Excess

Directions: 850; 852; located north of the guard shack at Manana Family housing area adjacent to the exiting tennis courts

Comments: public access denied and no alternative method to gain access without compromising national security

Reasons: Secured Area

Texas

72/1047/159 Boiler Building

No. 2; Building 22F; Lyndon B. Johnson

Space Center; 2101 NASA Parkway

Houston TX 77058

Landholding Agency: NASA

Property Number: 71201630010

Status: Unutilized

Comments: public access denied and no alternative method to gain access w/out compromising national security

Reasons: Secured Area

72/1047/129; Rectifier

Building, Building 22A

Lyndon B. Johnson Space Center

Houston TX 77058

Landholding Agency: NASA

Property Number: 71201630011

Status: Unutilized

Directions: 2101 NASA Parkway

Comments: public access denied and no alternative method to gain access w/out compromising national security

Reasons: Secured Area

72/1047/131, Atmospheric

Re-Entry Materials & Structures Evaluation

Facility, Building 222

Houston TX 77058

Landholding Agency: NASA

Property Number: 71201630012

Status: Unutilized

Directions: 2101 NASA Parkway

Comments: public access denied and no alternative method to gain access w/out compromising national security

Reasons: Secured Area

West Virginia

Building 9

3610 Collins Ferry Rd.

Morgantown WV 26507

Landholding Agency: Energy

Property Number: 41201630002

Status: Excess

Comments: public access denied and no alternative method to gain access without compromising national security

Reasons: Secured Area

[FR Doc. 2016-18289 Filed 8-1-16; 8:45 am]

BILLING CODE 4210-67-P